DEPARTMENT OF AGRICULTURE

Animal and Plant Health Inspection Service

[Docket No. 05-065-1]

Fiscal Year 2006 Reimbursable Overtime Rates, Veterinary Diagnostic Services User Fees, and Agricultural Quarantine and Inspection User Fees

AGENCY: Animal and Plant Health Inspection Service, USDA.

ACTION: Notice.

SUMMARY: This notice pertains to reimbursable overtime charged for Sunday, holiday, or other overtime work performed in connection with the inspection, laboratory testing, certification, or quarantine of certain articles, to user fees for certain veterinary diagnostic services, and to fees charged for agricultural quarantine and inspection services that are provided in connection with certain commercial vessels, commercial trucks, commercial railroad cars, commercial aircraft, and international airline passengers arriving at ports in the customs territory of the United States. The purpose of this notice is to remind the public of the reimbursable overtime charges and user fees for fiscal year 2006 (October 1, 2005, through September 30, 2006).

FOR FURTHER INFORMATION CONTACT: For information concerning reimbursable overtime charges related to Plant Protection and Quarantine program operations, contact Mr. Michael Caporaletti, Senior Program Analyst, Quarantine Policy, Analysis, and Support, PPQ, APHIS, 4700 River Road Unit 60, Riverdale, MD 20737-1231; (301) 734-5781.

For information concerning reimbursable overtime charges related to animal health programs and Veterinary Services import and export program operations, contact Dr. Lee Ann Thomas, Director, National Center for Import and Export, VS, APHIS, 4700 River Road Unit 39, Riverdale, MD 20737-1231; (301) 734-3277.

For information concerning veterinary diagnostic program operations, contact Dr. Randall Levings, Director, National Veterinary Services Laboratories, 1800 Daton Road, P.O. Box 844, Ames, IA 50010; (515) 663-7357.

For information concerning Agricultural Quarantine program operations, contact Mr. William E. Thomas, Assistant Director for Quarantine Policy, Analysis, and Support, PPQ, APHIS, 4700 River Road Unit 60, Riverdale, MD 20737-1231; (301) 734-5214.

For information concerning user fee rate development, contact Mrs. Kris Caraher, Accountant, User Fees Section, Financial Systems and Services Branch, MRPBS, APHIS, 4700 River Road Unit 54, Riverdale, MD 20737-1232; (301) 734-5901.

SUPPLEMENTARY INFORMATION:

Note: In March 2003, the agricultural import and entry inspection activities that had been performed by employees of the Animal and Plant Health Inspection Service (APHIS) were transferred to the Department of Homeland Security (DHS). Some of the regulations cited in this notice have not yet been updated to reflect this change, so in the interests of consistency with those regulations this notice continues to refer to “APHIS employees” and services provided or work performed by APHIS employees. Readers should be aware, however, that DHS personnel are currently performing certain of the agricultural import and entry inspection activities discussed in this notice for which overtime charges or user fees are applicable.

Reimbursable Overtime Charges

The regulations in 7 CFR chapter III and 9 CFR chapter I, subchapters D and G, require inspection, laboratory testing, certification, or quarantine of certain animals, poultry, animal byproducts, germ plasm, organisms, vectors, plants, plant products, or other regulated commodities or articles intended for importation into, or exportation from, the United States. With some exceptions, when these services must be provided by an APHIS employee on a Sunday or on a holiday, or at any other time outside the APHIS employee's regular duty hours, the Government charges an hourly overtime fee for the services in accordance with 7 CFR part 354 and 9 CFR part 97.

In a final rule published in the Federal Register on July 25, 2002 (67 FR 48519-48525, Docket No. 00-087-2), and effective August 11, 2002, we established, for fiscal years 2002 through 2006 and beyond, reimbursable overtime rates for Sunday, holiday, or other overtime work performed by APHIS employees for any person, firm, or corporation having ownership, custody, or control of animals, poultry, animal byproducts, germ plasm, organisms, vectors, plants, plant products, or other regulated commodities or articles subject to inspection, laboratory testing, certification, or quarantine. In this document we are providing notice to the public of the reimbursable overtime fees for fiscal year 2006 (October 1, 2005, through September 30, 2006).

Under the regulations in 7 CFR 354.1(a) and 9 CFR 97.1(a), any person, firm, or corporation having ownership, custody or control of plants, plant products, animals, animal byproducts, or other commodities or articles subject to inspection, laboratory testing, certification, or quarantine who requires the services of an APHIS employee on a Sunday or holiday, or at any other time outside the regular tour of duty of that employee, shall sufficiently in advance of the period of Sunday, holiday, or overtime service request the APHIS inspector in charge to furnish the service during the overtime or Sunday or holiday period, and shall, beginning October 1, 2005, pay the Government at the rate listed in the following table:

Overtime for Inspection, Laboratory Testing, Certification, or Quarantine of Plants, Plant Products, Animals, Animal Products, or Other Regulated Commodities
Outside the employee's normal tour of duty | Overtime rates (per hour) beginning Oct. 1, 2005
Monday through Saturday and holidays | $51.00
Sundays | 67.00

As specified in 7 CFR 354.1(a)(1)(iii) and 9 CFR 97.1(a)(3), the overtime rates to be charged beginning October 1, 2005, to owners and operators of aircraft at airports of entry or other places of inspection as a consequence of the operation of the aircraft, for work performed outside of the regularly established hours of service will be as follows:

Overtime for Commercial Airline Inspection Services¹
Outside the employee's normal tour of duty | Overtime rates (per hour) beginning Oct. 1, 2005
Monday through Saturday and holidays | $41.00
Sundays | 55.00
¹ These charges exclude administrative overhead costs.

A minimum charge of 2 hours shall be made for any Sunday or holiday or unscheduled overtime duty performed by an employee on a day when no work was scheduled for him or her, or which is performed by an employee on his or her regular workday beginning either at least 1 hour before his or her scheduled tour of duty or which is not in direct continuation of the employee's regular tour of duty. In addition, each such period of Sunday or holiday or unscheduled overtime work to which the 2-hour minimum charge provision applies may include a commuted traveltime period (see 7 CFR 354.1(a)(2) and 9 CFR 97.1(b)).

Veterinary Diagnostic Services User Fees

User fees to reimburse APHIS for the costs of providing veterinary diagnostic services are contained in 9 CFR part 130 (referred to below as the regulations). These user fees are authorized by section 2509(c) of the Food, Agriculture, Conservation and Trade Act of 1990, as amended (21 U.S.C. 136a), which provides that the Secretary of Agriculture may, among other things, prescribe regulations and collect fees to recover the costs of veterinary diagnostics relating to the control and eradication of communicable disease of livestock or poultry within the United States.

In a final rule published in the Federal Register on May 6, 2004 (68 FR 25305-25312, Docket No. 00-024-2), and effective June 7, 2004, we established, for fiscal years 2004 through 2007 and beyond, user fees for certain veterinary diagnostic services, including certain diagnostic tests, reagents, and other veterinary diagnostic materials and services. Veterinary diagnostics is the work performed in a laboratory to determine if a disease-causing organism or chemical agent is present in body tissues or cells and, if so, to identify those organisms or agents. Services in this category include: (1) Performing identification, serology, and pathobiology tests and providing diagnostic reagents and other veterinary diagnostic materials and services at the National Veterinary Services Laboratories (NVSL) in Ames, IA; and (2) performing laboratory tests and providing diagnostic reagents and other veterinary diagnostic materials and services at the NVSL Foreign Animal Disease Diagnostic Laboratory (NVSL FADDL) in Greenport, NY.

APHIS veterinary diagnostic user fees fall into six categories:

(1) Laboratory tests, reagents, and other veterinary diagnostic services performed at NVSL FADDL;

(2) Laboratory tests performed as part of isolation and identification testing at NVSL in Ames;

(3) Laboratory tests performed as part of serology testing at NVSL in Ames;

(4) Laboratory tests performed at the pathobiology laboratory at NVSL in Ames;

(5) Diagnostic reagents produced at NVSL in Ames or other authorized sites; and

(6) Other veterinary diagnostic services or materials provided at NVSL in Ames.

As specified in § 130.14(a), the user fees for diagnostic reagents provided by NVSL FADDL for fiscal year 2006 are as follows:

Reagent | Unit (mL) | User fee
Bovine antiserum, any agent | 1 | $160.00
Caprine antiserum, any agent | 1 | 195.00
Cell culture antigen/microorganism | 1 | 109.00
Equine antiserum, any agent | 1 | 198.00
Fluorescent antibody conjugate | 1 | 176.00
Guinea pig antiserum, any agent | 1 | 194.00
Monoclonal antibody | 1 | 235.00
Ovine antiserum, any agent | 1 | 187.00
Porcine antiserum, any agent | 1 | 162.00
Rabbit antiserum, any agent | 1 | 190.00

As specified in § 130.14(b), the user fees for veterinary diagnostic tests performed at NVSL FADDL for fiscal year 2006 are as follows:

Test | Unit | User fee
Agar gel immunodiffusion | Test | $32.00
Card | Test | 18.00
Complement fixation | Test | 38.00
Direct immunofluorescent antibody | Test | 24.00
Enzyme linked immunosorbent assay | Test | 28.00
Fluorescent antibody neutralization (classical swine fever) | Test | 208.00
Hemagglutination inhibition | Test | 61.00
Immunoperoxidase | Test | 31.00
Indirect fluorescent antibody | Test | 37.00
In-vitro safety | Test | 609.00
In-vivo safety | Test | 5,447.00
Latex agglutination | Test | 25.00
Tube agglutination | Test | 29.00
Virus isolation (oesophageal/pharyngeal) | Test | 192.00
Virus isolation in embryonated eggs | Test | 370.00
Virus isolation, other | Test | 166.00
Virus neutralization | Test | 56.00

As specified in § 130.14(c), the user fees for other veterinary diagnostic services performed at NVSL FADDL for fiscal year 2006 are as follows:

Veterinary diagnostic service | Unit | User fee
Bacterial isolation | Test | $119.00
Hourly user fee services¹ | Hour | 476.00
Hourly user fee services—Quarter hour | Quarter hour | 119.00
Infected cells on chamber slides or plates | Slide | 51.00
Reference animal tissues for immunohistochemistry | Set | 182.00
Sterilization by gamma radiation | Can | 1,860.00
Training (school or technical assistance) | Per person per day | 973.00
Virus titration | Test | 119.00
¹ For all veterinary diagnostic services for which there is no flat rate user fee, the hourly rate user fee will be calculated for the actual time required to provide the service.

As specified in § 130.15(a), the user fees for bacteriology isolation and identification tests performed at NVSL (excluding FADDL) or other authorized sites for fiscal year 2006 are as follows:

Test | Unit | User fee
Bacterial identification, automated | Isolate | $51.00
Bacterial identification, non-automated | Isolate | 87.00
Bacterial isolation | Sample | 35.00
Bacterial serotyping, all other | Isolate | 53.00
Bacterial serotyping, Pasteurella multocida | Isolate | 18.00
Bacterial serotyping, Salmonella | Isolate | 35.00
Bacterial toxin typing | Isolate | 116.00
Bacteriology requiring special characterization | Test | 89.00
DNA fingerprinting | Test | 58.00
DNA/RNA probe | Test | 81.00
Fluorescent antibody | Test | 18.00
Mycobacterium identification (biochemical) | Isolate | 111.00
Mycobacterium identification (gas chromatography) | Procedure | 93.00
Mycobacterium isolation, animal inoculations | Submission | 814.00
Mycobacterium isolation, all other | Submission | 146.00
Mycobacterium paratuberculosis isolation | Submission | 70.00
Phage typing, all other | Isolate | 41.00
Phage typing, Salmonella enteritidis | Isolate | 23.00

As specified in § 130.15(b), the user fees for virology identification tests performed at NVSL (excluding FADDL) or other authorized sites for fiscal year 2006 are as follows:

Test | Unit | User fee
Fluorescent antibody tissue section | Test | $28.00
Virus isolation | Test | 46.00

As specified in § 130.16(a), the user fees for bacteriology serology tests performed at NVSL (excluding FADDL) or other authorized sites for fiscal year 2006 are as follows:

Test | Unit | User fee
Brucella ring (BRT) | Test | $35.00
Brucella ring, heat inactivated (HIRT) | Test | 35.00
Brucella ring, serial (Serial BRT) | Test | 53.00
Buffered acidified plate antigen presumptive | Test | 7.00
Card | Test | 4.00
Complement fixation | Test | 16.00
Enzyme linked immunosorbent assay | Test | 16.00
Indirect fluorescent antibody | Test | 14.00
Microscopic agglutination—includes up to 5 serovars | Sample | 23.00
Microscopic agglutination—each serovar in excess of 5 serovars | Sample | 4.00
Particle concentration fluorescent immunoassay (PCFIA) | Test | 35.00
Plate | Test | 7.00
Rapid automated presumptive | Test | 6.00
Rivanol | Test | 7.00
Tube agglutination | Test | 7.00

As specified in § 130.16(b), the user fees for virology serology tests performed at NVSL (excluding FADDL) or at authorized sites for fiscal year 2006 are as follows:

Test | Unit | User fee
Agar gel immunodiffusion | Test | $16.00
Complement fixation | Test | A16.00
Enzyme linked immunosorbent assay | Test | 16.00
Hemagglutination inhibition | Test | 14.00
Indirect fluorescent antibody | Test | 14.00
Latex agglutination | Test | 16.00
Peroxidase linked antibody | Test | 15.00
Plaque reduction neutralization | Test | 17.00
Rabies fluorescent antibody neutralization | Test | 44.00
Virus neutralization | Test | 13.00

As specified in § 130.17(a), the user fees for veterinary diagnostic tests performed at the Pathobiology Laboratory at NVSL (excluding FADDL) or at authorized sites for fiscal year 2006 are as follows:

Test | Unit | User fee
Aflatoxin quantitation | Test | $29.00
Aflatoxin screen | Test | 28.00
Agar gel immunodiffusion spp. identification | Test | 12.00
Antibiotic (bioautography) quantitation | Test | 63.00
Antibiotic (bioautography) screen | Test | 115.00
Antibiotic inhibition | Test | 63.00
Arsenic | Test | 17.00
Ergot alkaloid screen | Test | 63.00
Ergot alkaloid confirmation | Test | 83.00
Feed microscopy | Test | 63.00
Fumonisin only | Test | 36.00
Gossypol | Test | 95.00
Mercury | Test | 140.00
Metals screen | Test | 43.00
Metals single element confirmation | Test | 12.00
Mycotoxin: aflatoxin—liver | Test | 115.00
Mycotoxin screen | Test | 46.00
Nitrate/nitrite | Test | 63.00
Organic compound confirmation | Test | 85.00
Organic compound screen | Test | 146.00
Parasitology | Test | 28.00
Pesticide quantitation | Test | 128.00
Pesticide screen | Test | 58.00
pH | Test | 26.00
Plate cylinder | Test | 95.00
Selenium | Test | 43.00
Silicate/carbonate disinfectant | Test | 63.00
Temperature disks | Test | 126.00
Toxicant quantitation, other | Test | 106.00
Toxicant screen, other | Test | 32.00
Vomitoxin only | Test | 51.00
Water activity | Test | 32.00
Zearaleone quantitation | Test | 51.00
Zearaleone screen | Test | 28.00

As specified in § 130.18(a), the user fees for bacteriology reagents produced by the Diagnostic Bacteriology Laboratory at NVSL (excluding FADDL) or other authorized sites for fiscal year 2006 are as follows:

Reagent | Unit | User fee
Anaplasma card test antigen | 2 mL | $92.00
Anaplasma card test kit without antigen | Kit | 123.00
Anaplasma CF antigen | 2 mL | 46.00
Anaplasma stabilate | 4.5 mL | 170.00
Avian origin bacterial antiserums | 1 mL | 46.00
Bacterial agglutinating antigens other than brucella and salmonella pullorum | 5 mL | 52.00
Bacterial conjugates | 1 mL | 93.00
Bacterial disease CF antigens, all other | 1 mL | 28.00
Bacterial ELISA antigens | 1 mL | 28.00
Bacterial or protozoal, antiserums, all other | 1 mL | 58.00
Bacterial reagent culture ¹ | Culture | 70.00
Bacterial reference culture ² | Culture | 221.00
Bacteriophage reference culture | Culture | 166.00
Bovine serum factor | 1 mL | 17.00
Brucella abortus CF antigen | 60 mL | 146.00
Brucella agglutination antigens, all other | 60 mL | 146.00
Brucella buffered plate antigen | 60 mL | 166.00
Brucella canis tube antigen | 25 mL | 107.00
Brucella card test antigen (packaged) | Package | 87.00
Brucella card test kit without antigen | Kit | 111.00
Brucella cells | Gram | 18.00
Brucella cells, dried | Pellet | 5.00
Brucella ring test antigen | 60 mL | 233.00
Brucella rivanol solution | 60 mL | 28.00
Dourine CF antigen | 1 mL | 86.00
Dourine stabilate | 4.5 mL | 107.00
Equine and bovine origin babesia species antiserums | 1 mL | 123.00
Equine negative control CF antigen | 1 mL | 276.00
Flazo-orange | 3 mL | 12.00
Glanders CF antigen | 1 mL | 75.00
Hemoparasitic disease CF antigens, all other | 1 mL | 522.00
Leptospira transport medium | 10 mL | 4.00
Monoclonal antibody | 1 mL | 93.00
Mycobacterium spp. old tuberculin | 1 mL | 23.00
Mycobacterium spp. PPD | 1 mL | 18.00
Mycoplasma hemagglutination antigens | 5 mL | 174.00
Negative control serums | 1 mL | 18.00
Rabbit origin bacterial antiserum | 1 mL | 50.00
Salmonella pullorum microagglutination antigen | 5 mL | 15.00
Stabilates, all other | 4.5 mL | 659.00
¹ A reagent culture is a bacterial culture that has been subcultured one or more times after being tested for purity and identity. It is intended for use as a reagent with a diagnostic test such as the leptospiral microagglutination test.
² A reference culture is a bacterial culture that has been thoroughly tested for purity and identity. It should be suitable as a master seed for future cultures.

As specified in § 130.18(b), the user fees for virology reagents produced by the Diagnostic Virology Laboratory at NVSL (excluding FADDL) or at authorized sites for fiscal year 2006 are as follows:

Reagent | Unit | User fee
Antigen, except avian influenza and chlamydia psittaci antigens, any | 2 mL | $59.00
Avian antiserum except avian influenza antiserum, any | 2 mL | 47.00
Avian influenza antigen, any | 2 mL | 32.00
Avian influenza antiserum, any | 6 mL | 100.00
Bovine or ovine serum, any | 2 mL | 23.00
Cell culture | Flask | 146.00
Chlamydia psittaci spp. of origin monoclonal antibody panel | Panel | 93.00
Conjugate, any | 1 mL | 71.00
Diluted positive control serum, any | 2 mL | 24.00
Equine antiserum, any | 2 mL | 44.00
Monoclonal antibody | 1 mL | 99.00
Other spp. antiserum, any | 1 mL | 52.00
Porcine antiserum, any | 2 mL | 102.00
Porcine tissue sets | Tissue set | 155.00
Positive control tissues, all | 2 cm² section | 58.00
Rabbit origin antiserum | 1 mL | 50.00
Reference virus, any | 0.6 mL | 174.00
Viruses (except reference viruses), chlamydia psittaci agent or chlamydia psittaci antigen, any | 0.6 mL | 29.00

As specified in § 130.19(a), the user fees for other veterinary diagnostic services or materials available from NVSL (excluding FADDL) for fiscal year 2006 are as follows:

Service | Unit | User fee
Antimicrobial susceptibility test | Isolate | $101.00
Avian safety test | Test | 3,972.00
Check tests, culture | Kit¹ | 171.00
Check tests, serology, all other | Kit¹ | 349.00
Fetal bovine serum safety test | Verification | 1,096.00
Hourly user fee services: ²
Hour | Hour | 84.00
Quarter hour | Quarter hour | 21.00
Minimum |  | 25.00
Manual, brucellosis culture | 1 copy | 111.00
Manual, tuberculosis culture (English or Spanish) | 1 copy | 166.00
Manual, Veterinary mycology | 1 copy | 166.00
Manuals or standard operating procedure (SOP), all other | 1 copy | 33.00
Manuals or SOP, per page | 1 page | 2.00
Training (school or technical assistance) | Per person per day | 320.00
¹ Any reagents required for the check test will be charged separately.
² For veterinary diagnostic services for which there is no flat rate user fee the hourly rate user fee will be calculated for the actual time required to provide the service.

Agricultural Quarantine and Inspection Services User Fees

User fees to reimburse APHIS for the costs of providing inspections of certain commercial conveyances are found in 7 CFR part 354 (referred to below as the regulations). These user fees are authorized by Section 2509(a) of the Food, Agriculture, Conservation, and Trade Act of 1990 (21 U.S.C. 136a), which authorizes APHIS to collect user fees for agricultural quarantine and inspection (AQI) services.

In a final rule published in the Federal Register on December 9, 2004 (69 FR 71660-71683, Docket No. 04-042-1), and effective January 1, 2005, we established, for fiscal years 2005 through 2010 and beyond, user fees for each of the types of conveyances or persons to whom AQI services are provided, i.e., commercial vessels (watercraft), commercial trucks, commercial railroad cars, commercial aircraft, and international airline passengers. The regulations provide specific information regarding the applicability of, and exceptions to, AQI user fees. As specified in 7 CFR 354.3, the user fees for these AQI services for fiscal year 2006 are as follows:

Service | Unit | Amount
Inspection of commercial vessels of 100 net tons or more (see 7 CFR 354.3(b)) | Per entry ¹ | $488.00
Inspection of commercial trucks (see 7 CFR 354.3(c)) | Per entry ² | 5.25
Inspection of commercial railroad cars (see 7 CFR 354.3(d)) | Per entry ³ | 7.50
Inspection of commercial aircraft (see 7 CFR 354.3(e)) | Per entry | 70.25
Inspection of international aircraft passengers (see 7 CFR 354.3(f)) | Per entry | 5.00
¹ Not to exceed 15 payments in a calendar year (i.e., no additional fee will be charged for a 16th or subsequent arrival in a calendar year).
² A prepaid AQI permit valid for 1 calendar year may be obtained for an amount 20 times the AQI user fee for each arrival ($105.00 from October 1, 2005 through September 30, 2005).
³ The AQI user fee may be prepaid for all arrivals of a commercial railroad car during a calendar year for an amount 20 times the AQI user fee for each arrival ($150.00 from October 1, 2005 through September 30, 2006).

Done in Washington, DC, this 22nd day of August 2005.
Elizabeth E. Gaston,
Acting Administrator, Animal and Plant Health Inspection Service.

[FR Doc. 05-16982 Filed 8-25-05; 8:45 am]

BILLING CODE 3410-34-P